DEPARTMENT OF ENERGY

Federal Energy Regulatory Commission

[Docket No. ER97-4273-012, et al.]

Cargill-Alliant, LLC, et al.; Electric Rate and Corporate Regulation Filings

July 22, 2002.

The following filings have been made with the Commission. The filings are listed in ascending order within each docket classification.

1. Cargill-Alliant, LLC

[Docket No. ER97-4273-012]

Take notice that on July 15, 2002, Cargill-Alliant, LLC, tendered for filing a notification of change in status with respect to its authority to engage in wholesale sales of capacity, energy, and ancillary services at market-based rates.

Comment Date: August 5, 2002.

2. San Diego Gas & Electric Company

[Docket No. ER02-1558-001]

Take notice that on July 18, 2002, San Diego Gas & Electric (SDG&E) tendered for filing Amendment No. 1 to Service Agreement No. 5 of SDG&E's FERC Electric Tariff, First Revised Volume No. 6. The Amendment No. 1 reflects changes made to Appendix J, the monthly Operation & Maintenance (O&M) charge that SDG&E will assess.

Comment Date: August 8, 2002.

3. UGI Utilities, Inc.

[Docket No. ER02-2042-001]

Take notice that on July 16, 2002, UGI, Utilities, Inc. (UGI) tendered for filing a substitute market-based rate schedule showing the correct designation as FERC Electric Rate Schedule No. 10 under which it proposes to sell capacity and energy to affiliates and non-affiliates at market-based rates. UGI requests an effective date of August 1, 2002.

Comment Date: August 6, 2002.

4. Nevada Power Company

[Docket No. ER02-2329-000]

Take notice that on July 16, 2002, Nevada Power Company (Nevada Power) tendered for filing an executed Memorandum of Understanding (MOU) between Nevada Power and Reliant Energy Bighorn, LLC.

Comment Date: August 6, 2002.

5. PacifiCorp

[Docket No. ER02-2331-000]

Take notice that on July 16, 2002, PacifiCorp, tendered for filing in accordance with 18 CFR 35 of the Federal Energy Regulatory Commission's Rules and Regulations, a First Amended Long Term Power Sales Agreement with Public Service Company of Colorado.

Copies of this filing were supplied to the Washington Utilities and Transportation Commission and the Public Utility Commission of Oregon.

Comment Date: August 6, 2002.

6. Florida Power & Light Company

[Docket No. ER02-2332-000]

Take notice that on July 16, 2002, Florida Power & Light Company (FPL) filed with the Federal Energy Regulatory Commission an unexecuted Interconnection and Operation Agreement between FPL and Midway Generating Company, L.L.C. (Midway) that sets forth the terms and conditions governing the interconnection between Midway's generating project located in St. Lucie County, Florida and FPL's transmission system.

A copy of this filing has been served on Midway and the Florida Public Service Commission. The Interconnection and Operation Agreement is designated as Florida Power & Light Company Original Service Agreement No. 209 to its OATT, FERC Electric Tariff, Second Revised Volume No. 6.

Comment Date: August 6, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-19195 Filed 7-29-02; 8:45 am]

BILLING CODE 6717-01-P